DEPARTMENT OF HEALTH AND HUMAN SERVICES

Administration for Children and Families

Office of Refugee Resettlement

[CFDA Number: 93.598]

Announcement of the Award of Three Single-Source Program Expansion Supplement Grants to National Human Trafficking Victim Assistance Program Grantees

AGENCY: Office of Refugee Resettlement, ACF, HHS.

ACTION: Announcement of the award of single-source expansion supplements to three current grantees to support expanded services to foreign trafficking victims, potential trafficking victims, and certain family members.

SUMMARY: The Administration for Children and Families (ACF), Office of Refugee Resettlement (ORR) announces the award of expansion supplement grants to the following current grantees for a total of $350,000:

Grantee organization | Grant location | Supplement award amount
U.S. Committee for Refugees and Immigrants | Arlington, VA | $170,000
Tapestri, Inc. | Tucker, GA | 96,000
Heartland Human Care Services | Chicago, IL | 84,000

These supplement grants will ensure sufficient funds to meet clients' essential needs, such as housing, transportation, communication, food, and medical care.

DATES: The period of support under these supplements is August 14, 2013 through September 29, 2013.

FOR FURTHER INFORMATION CONTACT: Maggie Wynne, Director, Division of Anti-Trafficking in Persons, Office of Refugee Resettlement, 901 D Street SW., Washington, DC 20447, Telephone (202) 401-4664. Email: maggie.wynne@acf.hhs.gov.

SUPPLEMENTARY INFORMATION: The National Human Trafficking Victim Assistance Program (NHTVAP) provides funding for comprehensive case management services on a per capita basis. The NHTVAP grantees help victims gain access to housing, employability services, mental health screening and therapy, medical care, and some legal services, enabling them to live free of violence and exploitation. During FY 2013, the NHTVAP grantees have served more clients than they planned for in their budgets. Without additional funding, they will have to make significant cuts in services to clients and that enrollment of new clients will be limited. With supplemental funding, the grantees will be able to ensure that all of the clients' essential needs will be met.

Statutory Authority: Trafficking Victims Protection Act of 2000 (TVPA), as amended, Section 107(b)(1)(B), 22 U.S.C. 7105(b)(1)(B), provides funding for benefits and services to foreign victims of severe forms of trafficking in persons in the United States, potential victims of trafficking seeking HHS Certification, and certain family members.

Eskinder Negash,
Director, Office of Refugee Resettlement.

[FR Doc. 2013-22426 Filed 9-13-13; 8:45 am]

BILLING CODE 4184-47-P